DEPARTMENT OF ENERGY

Environmental Management Advisory Board

AGENCY: Office of Environmental Management, Department of Energy.

ACTION: Notice of open in-person/virtual hybrid meeting.

SUMMARY: This notice announces an in-person/virtual meeting of the Environmental Management Advisory Board (EMAB). The Federal Advisory Committee Act requires that public notice of this meeting be announced in the Federal Register.

DATES: Thursday, December 1, 2022, 1 p.m.-5 p.m. CST.

ADDRESSES: This hybrid meeting will be open to the public virtually (observation only). To attend, please contact Alyssa Petit by email, Alyssa.Petit@em.doe.gov, no later than 5:00 p.m. EDT on Friday, November 25, 2022.

For EMAB members, presenters, and staff, the meeting will be held, following COVID-19 precautionary measures, at: Sheraton New Orleans Hotel, Napoleon Room C-3, 500 Canal Street, New Orleans, Louisiana 70130.

Attendees should check the EMAB website listed below for any meeting format changes due to COVID-19 protocols.

FOR FURTHER INFORMATION CONTACT: Alyssa Petit, EMAB Federal Coordinator. U.S. Department of Energy, 1000 Independence Avenue SW, Washington, DC 20585. Phone (202) 430-9624 or Email: Alyssa.Petit@em.doe.gov.

SUPPLEMENTARY INFORMATION:

Purpose of the Board: The purpose of EMAB is to provide the Assistant Secretary for Environmental Management (EM) with independent advice and recommendations on corporate issues confronting the EM program. EMAB's membership reflects a diversity of views, demographics, expertise, and professional and academic experience. Individuals are appointed by the Secretary of Energy to serve as either special Government employees or representatives of specific interests and/or entities.

Tentative Agenda

• Remarks from EM leadership

• Recruitment and Retention Subcommittee Presentation

• Hybrid Work Subcommittee Presentation

• Reading of Public Comment

• EM Budget Update and Program Plan Presentation

• EM Regulatory and Policy Affairs Update

• Board Business

Public Participation: The online virtual meeting is open to the public. Public comments will be accepted via email prior to and after the meeting. Comments received no later than 5 p.m. EDT on Friday, November 25, 2022, will be read aloud during the virtual meeting. Comments will also be accepted after the meeting by no later than 5 p.m. EDT on Monday, December 5, 2022. Please send comments to Alyssa Petit at Alyssa.Petit@em.doe.gov. The Designated Federal Officer is empowered to conduct the meeting in a fashion that will facilitate the orderly conduct of business. Individuals wishing to make public comments should email them as directed above. If you require special accommodations due to a disability, please contact Alyssa Petit at least seven days in advance of the meeting at the email address listed above.

Minutes: Minutes will be available by writing or calling Alyssa Petit at the address or phone number listed above. Minutes will also be available at the following website: https://www.energy.gov/em/listings/emab-meetings.

Signing Authority

This document of the Department of Energy was signed on October 31, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 2, 2022.
Treena V. Garrett,
Federal Register Liaison Officer, U.S. Department of Energy.

[FR Doc. 2022-24182 Filed 11-4-22; 8:45 am]

BILLING CODE 6450-01-P